DEPARTMENT OF THE INTERIOR

Bureau of Land Management

[LL91310000EI]

Notice of Intent To Prepare an Environmental Impact Statement for the Proposed Leasing of National System of Public Lands for Geothermal Resource Development in the Haiwee Geothermal Leasing Area Located in Inyo County, CA and To Amend the California Desert Conservation Area Plan of 1980

AGENCY: Bureau of Land Management, Interior.

ACTION: Notice of Intent.

SUMMARY: In compliance with the National Environmental Policy Act of 1976 (NEPA), as amended, and section 202 of the Federal Land Policy and Management Act of 1976 (FLPMA), as amended, the Bureau of Land Management (BLM) Ridgecrest Field Office intends to prepare an Environmental Impact Statement (EIS) to analyze the proposed leasing of approximately 22,060 acres of BLM-managed public lands for geothermal exploration, development, and utilization in the Haiwee Geothermal Leasing Area located in Inyo County, California. The leasing of public lands for geothermal resources will require an amendment to the California Desert Conservation Area (CDCA) Plan of 1980. Comments are being solicited to help identify significant issues or concerns related to the proposed action, determine the scope of issues, and identify and refine alternatives to the proposed action. The BLM will also use and coordinate the NEPA commenting process to satisfy the requirements for public involvement in section 106 of the National Historic Preservation Act.

DATES: This Notice initiates the public scoping process for the EIS and plan amendment. Comments on issues may be submitted in writing until October 13, 2009. The date(s) and location(s) of the public scoping meetings will be announced at least 15 days in advance through local news media, newspapers and the BLM Web site at: http://www.blm.gov/ca/st/en.html. In order to be included in the Draft EIS, all comments must be received prior to the close of the scoping period or 15 days after the last public meeting, whichever is later. We will provide additional opportunities for public participation upon publication of the Draft EIS.

ADDRESSES: You may submit comments related to Geothermal Leasing in the Haiwee Geothermal Leasing Area located in Inyo County, California by any of the following methods:

• Web site: http://www.blm.gov/ca/st/en.html.

• E-mail: John_Dalton@ca.blm.gov.

• Fax: (951) 697-5299.

• Mail: Bureau of Land Management, California Desert District Office, Attn: John Dalton, Haiwee Geothermal Leasing Area Coordinator, 22835 Calle San Juan De Los Lagos, Moreno Valley, California 92553.

FOR FURTHER INFORMATION CONTACT: John Dalton at (951) 697-5311, John_Dalton@ca.blm.gov.

SUPPLEMENTARY INFORMATION: The BLM has received three noncompetitive geothermal lease applications for 4,460 acres of public land within the Haiwee Geothermal Leasing Area in Inyo County, California. In addition, the BLM identified approximately 17,600 acres of public lands, also within the Haiwee Geothermal Leasing Area and adjacent to the three geothermal lease applications, which will be considered for competitive geothermal leasing under 43 CFR 3203.10(e). The proposed action is to amend the CDCA Plan to allocate project area lands as open or closed to consideration for geothermal leasing, with appropriate stipulations necessary to maintain and protect other resource values and uses, and to develop a Reasonably Foreseeable Development Scenario for geothermal resources development under the authority of the FLPMA and the Geothermal Steam Act of 1970, as amended (30 U.S.C. 1001 et seq.). Individual lease issuance decisions and parcels to be included in a sale will be considered in a manner consistent with the final plan as amended, as subsequent implementation decisions. The public lands being considered for geothermal leasing in the Haiwee Geothermal Leasing Area are located in sections 11-14, 23-26, 35, and 36 in Township 21 South, Range 37 East, sections 7-10, 15, 17-22, 27-34 in Township 21 South, Range 38 East, in sections 1 and 2 in Township 22 South, Range 37 East, and sections 5-8 in Township 22 South, Range 38 East, all within the San Bernardino and Base Meridian. Total acreage being considered for geothermal leasing is approximately 22,060 acres.

Alternatives thus far identified for evaluation in the EIS will include the following:

1. Proposed action.

2. No action alternative (not leasing the lands for geothermal exploration, development, and utilization).

3. Leasing fewer than the proposed 22,060 acres of public land.

The principal issues identified thus far for consideration in the EIS include Native American concerns; potential land use conflicts including recreation; cumulative impacts considering existing, proposed, and potential geothermal projects in the area; and potential impacts on cultural resources, wildlife, visual resources, and surface and groundwater resources. The EIS will also address other issues such as geology, mining, geothermal resources, vegetation, threatened or endangered species, air quality, noise, transportation, human health and safety, and social and economic issues, as well as any issues raised during the scoping process.

The BLM will identify issues to be addressed in the Plan, and will place them into one of three categories:

1. Issues to be resolved in the plan.

2. Issues to be resolved through policy or administrative action.

3. Issues beyond the scope of this plan.

The BLM will provide an explanation in the plan as to why we placed an issue in category two or three. The public is also encouraged to help identify any management questions and concerns that should be addressed in the Plan. The BLM will work collaboratively with interested parties to identify the management decisions that are best suited to local, regional, and national needs and concerns.

The following Planning Criteria will be utilized during production of this document:

• The plan will be completed in compliance with FLPMA, NEPA, and all other relevant Federal law, Executive Orders, and management policies of the BLM.

• Where existing planning decisions are still valid, those decisions may remain unchanged and be incorporated into the plan amendment.

• The plans will recognize valid existing rights.

• Native American Tribal consultations will be conducted in accordance with policy and Tribal concerns will be given due consideration. The planning process will include the consideration of any impacts on Indian trust assets.

• Consultation with the State Historic Preservation Officer will be conducted throughout the planning process.

• Consultation with U.S. Fish and Wildlife Service will be conducted throughout the planning process, as necessary.

By this notice, the BLM is complying with requirements in 43 CFR 1610.2(c) to notify the public of potential amendments to land use plans, predicated on the findings of the EIS. The BLM will utilize and coordinate the NEPA commenting process to satisfy the public involvement process for section 106 of the National Historic Preservation Act (16 U.S.C. 470f) as provided for in 36 CFR 800.2(d)(3). Native American Tribal consultations will be conducted in accordance with policy, and Tribal concerns will be given due consideration, including impacts on Indian trust assets. Federal, State, and local agencies, as well as individuals, organizations, or tribes that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Jack Hamby,
Acting District Manager.

[FR Doc. E9-21928 Filed 9-10-09; 8:45 am]

BILLING CODE 4310-40-P